POSTAL SERVICE

39 CFR Parts 951, 952, 953, 954, 955, 957, 958, 959, 960, 961, 962, 963, 964, 965, and 966

Rules of Procedure Before the Judicial Officer

AGENCY: Postal Service™.

ACTION: Final rule.

SUMMARY: This document amends the rules of practice prescribed by the Judicial Officer to implement a new electronic filing system and update the rule titles.

DATES: Effective July 30, 2024.

FOR FURTHER INFORMATION CONTACT: Staff Counsel Zahava Colicelli at (708) 812-1927.

SUPPLEMENTARY INFORMATION:

A. Background

The Judicial Officer Department recently implemented a new electronic filing system with an updated internet address. Changes to the rules of practice are necessary to accommodate the new internet address. The Judicial Officer Department has also updated the headings of the Rules of Practice.

B. Explanation of Changes

Amendments to 39 CFR Part 951

The rule is amended to update the heading.

Amendments to 39 CFR Part 952

The rule is amended to update the heading.

Section 952.4(b) is amended to update the internet address for the electronic filing system.

Amendments to 39 CFR Part 953

The rule is amended to update the heading.

Section 953.2 is amended to update the internet address for the electronic filing system.

Amendments to 39 CFR Part 954

The rule is amended to update the heading.

Section 954.4(b) is amended to update the internet address for the electronic filing system.

Amendments to 39 CFR Part 955

The rule is amended to update the heading.

Section 955.1(b)(1) is amended to update the internet addresses for the Board's website and electronic filing system.

Amendments to 39 CFR Part 957

The rule is amended to update the heading.

Section 957.3 is amended to update the internet address for the Judicial Officer website.

Section 957.6 is amended to update the internet address for the electronic filing system.

Amendments to 39 CFR Part 958

The rule is amended to update the heading.

Section 958.19(b) is amended to update the internet address for the electronic filing system.

Amendments to 39 CFR Part 959

The rule is amended to update the heading.

Section 959.3(b) is amended to update the internet address for the electronic filing system.

Amendments to 39 CFR Part 960

The rule is amended to update the heading.

Amendments to 39 CFR Part 961

The rule is amended to update the heading.

In § 961.4, paragraphs (a) and (b) are amended to update the internet address for the electronic filing system.

Amendments to 39 CFR Part 962

The rule is amended to update the heading.

Section 962.22(a) is amended to update the internet address for the electronic filing system.

Amendments to 39 CFR Part 963

The rule is amended to update the heading.

In § 963.3, paragraph (a) and (d) are amended to update the internet address for the electronic filing system.

Amendments to 39 CFR Part 964

The rule is amended to update the heading.

Section 964.3(a) is amended to update the internet address for the electronic filing system.

Amendments to 39 CFR Part 965

The rule is amended to update the heading.

Section 965.5 is amended to update the internet address for the electronic filing system.

Amendments to 39 CFR Part 966

The rule is amended to update the heading.

Section 966.3(j) is amended to update the internet address for the Judicial Officer website.

In § 966.4, paragraphs (c) and (d) are amended to update the internet address for the electronic filing system.

List of Subjects

39 CFR Parts 951 and 958

Administrative practice and procedure, Postal Service.

39 CFR Part 952

Administrative practice and procedure, Fraud, Lotteries, Postal Service.

39 CFR Part 953

Administrative practice and procedure, Mailability, Postal Service.

39 CFR Part 954

Administrative practice and procedure, Periodicals, Postal Service.

39 CFR Part 955

Administrative practice and procedure, Government contracts, Postal Service.

39 CFR Part 957

Administrative practice and procedure, Government contracts.

39 CFR Part 959

Administrative practice and procedure, Private express statute, Privacy, Postal Service.

39 CFR Part 960

Claims, Equal access to justice, Lawyers.

39 CFR Parts 961 and 966

Administrative practice and procedure, Claims, Government employees, Wages.

39 CFR Part 962

Administrative practice and procedure, Fraud, Postal Service.

39 CFR Part 963

Administrative practice and procedure, Advertising, Postal Service.

39 CFR Part 964

Administrative practice and procedure, Fictitious names or addresses, Fraud, Postal Service.

39 CFR Part 965

Administrative practice and procedure, Mail disputes, Postal Service.

Accordingly, for the reasons stated, the Postal Service amends 39 CFR parts 951, 952, 953, 954, 955, 957, 958, 959, 960, 961, 962, 963, 964, 965, and 966 as follows:

PART 951—ELIGIBILITY TO PRACTICE BEFORE THE POSTAL SERVICE

1. The authority citation for 39 CFR part 951 continues to read as follows:

Authority: 39 U.S.C. 204, 401.

2. The heading for part 951 is revised to read as set forth above.

PART 952—FALSE REPRESENTATION AND LOTTERY ORDERS

3. The authority citation for 39 CFR part 952 continues to read as follows:

Authority: 39 U.S.C. 204, 401, 3001, 3005, 3012, 3016; 5 U.S.C. 554.

4. The heading for part 952 is revised to read as set forth above.

5. In § 952.4, paragraph (b) is revised to read as follows:

§ 952.4 Office business hours; electronic filing.

* * * * *

(b) The Judicial Officer electronic filing system website is accessible 24 hours a day at https://usps-judicialoffice.journaltech.com.

PART 953—MAILABILITY

6. The authority citation for 39 CFR part 953 continues to read as follows:

Authority: 39 U.S.C. 204, 401, 3001; 5 U.S.C. 554.

7. The heading for part 953 is revised to read as set forth above.

8. Revise § 953.2 to read as follows:

§ 953.2 Initiation.

Mailability proceedings are initiated upon the filing of an appeal in the Judicial Officer electronic filing system at https://usps-judicialoffice.journaltech.com or with the Recorder, Judicial Officer Department, U.S. Postal Service, 2101 Wilson Boulevard, Suite 600, Arlington, VA 22201-3078.

PART 954—DENIAL, SUSPENSION, OR REVOCATON OF PERIODICALS MAIL PRIVILEGES

9. The authority citation for 39 CFR part 954 continues to read as follows:

Authority: 39 U.S.C. 204, 401, 3685; 5 U.S.C. 554.

10. The heading for part 954 is revised to read as set forth above.

11. In § 954.4, paragraph (b) is revised to read as follows:

§ 954.4 Office business hours; electronic filing.

* * * * *

(b) The Judicial Officer electronic filing system website is accessible 24 hours a day at https://usps-judicialoffice.journaltech.com.

PART 955—POSTAL SERVICE BOARD OF CONTRACT APPEALS

12. The authority citation for 39 CFR part 955 continues to read as follows:

Authority: 39 U.S.C. 204, 401; 41 U.S.C. 7101-7109.

13. The heading for part 955 is revised to read as set forth above.

14. In § 955.1, paragraph (b)(1) is revised to read as follows:

§ 955.1 Jurisdiction, procedure, service of documents.

* * * * *

(b) * * *

(1) The Board is located at 2101 Wilson Boulevard, Suite 600, Arlington, Virginia 22201-3078. The Board's telephone number is (703) 812-1900, and its website is https://about.usps.com/who/judicial. The Board's fax number is (703) 812-1901. The website for electronic filing is https://usps-judicialoffice.journaltech.com.

* * * * *

PART 957—DEBARMENT AND SUSPENSION FROM CONTRACTING

15. The authority citation for 39 CFR part 957 continues to read as follows:

Authority: 39 U.S.C. 204, 401.

16. The heading for part 957 is revised to read as set forth above.

17. In § 957.3, the last sentence of paragraph (g) is revised to read as follows:

§ 957.3 Definitions.

* * * * *

(g) * * * The Recorder's telephone number is (703) 812-1900, fax number is (703) 812-1901, and the Judicial Officer's website is https://about.usps.com/who/judicial/.

18. In § 957.6, the second sentence is revised to read as follows:

§ 957.6 Filing documents for the record.

* * * The website for electronic filing is https://usps-judicialoffice.journaltech.com. * * *

PART 958—HAZARDOUS MATERIALS

19. The authority citation for 39 CFR part 958 continues to read as follows:

Authority: 39 U.S.C. 204, 401, 3001, 3018; 5 U.S.C. 554.

20. The heading for part 958 is revised to read as set forth above.

21. In § 958.19, the second sentence of paragraph (b) is revised to read as follows:

§ 958.19 Form and filing of documents.

* * * * *

(b) * * * The Judicial Officer electronic filing system website is accessible 24 hours a day at https://usps-judicialoffice.journaltech.com. * * *

PART 959—PRIVATE EXPRESS STATUTES

22. The authority citation for 39 CFR part 959 continues to read as follows:

Authority: 39 U.S.C. 204, 401; 601-606; 18 U.S.C. 1693-1699; 5 U.S.C. 554; 39 CFR 310, 320.

23. The heading for part 959 is revised to read as set forth above.

24. In § 959.3, paragraph (b) is revised to read as follows:

§ 959.3 Office address and business hours; electronic filing.

* * * * *

(b) The Judicial Officer electronic filing system website is accessible 24 hours a day at https://usps-judicialoffice.journaltech.com.

PART 960—EQUAL ACCESS TO JUSTICE ACT IN POSTAL SERVICE PROCEEDINGS

25. The authority citation for 39 CFR part 960 continues to read as follows:

Authority: 5 U.S.C. 504 (c)(1); 39 U.S.C. 204, 401 (2).

26. The heading for part 960 is revised to read as set forth above.

PART 961—DEBT COLLECTION ACT PETITIONS AGAINST CURRENT EMPLOYEES

27. The authority citation for 39 CFR part 961 continues to read as follows:

Authority: 39 U.S.C. 204, 401; 5 U.S.C. 5514.

28. The heading for part 961 is revised to read as set forth above.

29. In § 961.4, the first sentence of paragraph (a) and first sentence of paragraph (b) introductory text are revised to read as follows:

§ 961.4 Employee petition for a hearing.

(a) If an employee desires a hearing, prescribed by section 5 of the Debt Collection Act, to challenge the Postal Service's determination of the existence or amount of a debt, or to challenge the involuntary repayment terms proposed by the Postal Service, the employee must file a written petition electronically at https://usps-judicialoffice.journaltech.com. * * *

(b) A sample petition is available through the Judicial Officer Electronic Filing website (https://usps-judicialoffice.journaltech.com). * * *

* * * * *

PART 962—PROGRAM FRAUD CIVIL REMEDIES ACT

30. The authority citation for 39 CFR part 962 continues to read as follows:

Authority: 31 U.S.C. 3801-12; 39 U.S.C. 401; 5 U.S.C. 554.

31. The heading for part 962 is revised to read as set forth above.

32. In § 962.22, the second sentence of paragraph (a) introductory text is revised to read as follows:

§ 962.22 Form and filing of documents.

(a) * * * The Judicial Officer electronic filing system website is accessible 24 hours a day at https://usps-judicialoffice.journaltech.com. * * *

* * * * *

PART 963—PANDERING

33. The authority citation for 39 CFR part 963 continues to read as follows:

Authority: 39 U.S.C. 204, 401, 3008.

34. The heading for part 963 is revised to read as set forth above.

35. In § 963.3, the last sentence in paragraph (a) and the first sentence in paragraph (d) are revised to read as follows:

§ 963.3 Petition; notice of hearing; answer; filing and copies of documents; summary judgment.

(a) * * * The Manager will forward each timely petition to the Recorder through the Judicial Officer Department electronic filing system at https://usps-judicialoffice.journaltech.com.

* * * * *

(d) * * * All documents required under this part must be filed using the electronic filing system (https://usps-judicialoffice.journaltech.com) unless the presiding officer permits otherwise. * * *

* * * * *

PART 964—WITHHELD MAIL

36. The authority citation for 39 CFR part 964 continues to read as follows:

Authority: 39 U.S.C. 204, 401, 3003, 3004; 5 U.S.C. 554.

37. The heading for part 964 is revised to read as set forth above.

38. In § 964.3, the second sentence of paragraph (a) is revised to read as follows:

§ 964.3 Customer petitions; notice of hearing; answer; summary judgment.

(a) * * * The Petition, signed by the Petitioner or his or her attorney, shall be filed via the Judicial Officer Electronic filing system at https://usps-judicialoffice.journaltech.com or via certified mail to the Recorder, Judicial Officer Department, United States Postal Service, 2101 Wilson Boulevard, Suite 600, Arlington, VA 22201-3078. * * *

* * * * *

PART 965—MAIL DISPUTES

39. The authority citation for 39 CFR part 965 continues to read as follows:

Authority: 39 U.S.C. 204, 401.

40. The heading for part 965 is revised to read as set forth above.

41. In § 965.5, the first sentence is revised to read as follows:

§ 965.5 Initial submissions by parties.

Within 15 days after receipt of the Recorder's notice, each party shall file via the Judicial Officer electronic filing system (https://usps-judicialoffice.journaltech.com) a sworn statement of the facts supporting its claim to receipt of the mail together with a copy of each document on which it relies in making such claim, and any arguments supporting its claim. * * *

PART 966—ADMINISTRATIVE OFFSETS INITIATED AGAINST FORMER POSTAL SERVICE EMPLOYEES

42. The authority citation for 39 CFR part 966 continues to read as follows:

Authority: 31 U.S.C. 3716; 39 U.S.C. 204, 401, 2601.

43. The heading for part 966 is revised to read as set forth above.

44. In § 966.3, the last sentence of paragraph (j) is revised to read as follows:

§ 966.3 Definitions.

* * * * *

(j) * * * The recorder's telephone number is (703) 812-1900, and the Judicial Officer's website is https://about.usps.com/who/judicial/.

45. In § 966.4, paragraph (c) and the first sentence of paragraph (d) introductory text are revised to read as follows:

§ 966.4 Petition for a hearing and supplement to petition.

* * * * *

(c) Within thirty (30) calendar days after the date of receipt of the Accounting Service Center's decision upon reconsideration, after the expiration of sixty (60) calendar days after a request for reconsideration where a reconsideration determination is not made, or following an administrative offset taken without prior notice and opportunity for reconsideration pursuant to paragraph (b)(1) of this section, the former employee must file a written petition electronically at https://usps-judicialoffice.journaltech.com, or by mail at Recorder, Judicial Officer Department, United States Postal Service, 2101 Wilson Blvd., Suite 600, Arlington, VA 22201-3078.

(d) A sample petition is available through the Judicial Officer Electronic Filing website (https://usps-judicialoffice.journaltech.com). * * *

* * * * *

Colleen Hibbert-Kapler,
Attorney, Ethics and Legal Compliance.

[FR Doc. 2024-16428 Filed 7-29-24; 8:45 am]

BILLING CODE 7710-12-P